NATIONAL SCIENCE FOUNDATION

Proposal Review Panel for Materials Research; Notice of Meeting

In accordance with the Federal Advisory Committee Act (Pub., L. 92-463, as amended), the National Science Foundation (NSF) announces the following meeting:

Name and Committee Code: Proposal Review Panel for Materials Research (DMR) (#1203)—Platform for the Accelerated Realization, Analysis, and Discovery of Interface Materials (PARADIM), Materials Innovation Platform (MIP), Cornell University and Johns Hopkins University (Site Visit)

Date and Time: June 10, 2019; 8:00 a.m.-8:00 p.m.; June 11, 2019; 8:00 a.m.-3:00 p.m.

Place: Johns Hopkins University, Baltimore, MD 21218.

Type of Meeting: Part Open.

Contact Person: Dr. Charles Ying, Program Director, Division of Materials Research, National Science Foundation, Room E9467, 2415 Eisenhower Avenue, Alexandria, VA 22314; Telephone: (703) 292-8428.

Purpose Of Meeting: Site visit to provide advice and recommendations concerning further support of the MIP at Cornell University and Johns Hopkins University.

Agenda

Monday, June 10, 2019

8:00 a.m.-9:15 a.m. Closed—Executive Session

9:15 a.m.-11:30 a.m. Open—Review of PARADIM MIP

11:30 a.m.-1:00 p.m. Closed—Executive Session

1:00 p.m.-4:00 p.m. Open—Review of PARADIM MIP

4:00 p.m.-8:00 p.m. Closed—Executive Session

Tuesday, June 11, 2019

8:00 a.m.-3:00 p.m. Closed—Executive Session

Reason for Closing: The work being reviewed during closed portions of the site review includes information of a proprietary or confidential nature, including technical information; financial data, such as salaries and personal information concerning individuals associated with PARADIM/MIP. These matters are exempt under 5 U.S.C. 552b(c), (4) and (6) of the Government in the Sunshine Act.

Dated: May 10, 2019.
Crystal Robinson,
Committee Management Officer.

[FR Doc. 2019-10073 Filed 5-14-19; 8:45 am]

BILLING CODE 7555-01-P